DEPARTMENT OF LABOR

Employment and Training Administration

Agency Information Collection Activities; Comment Request; Claims and Payment Activities

ACTION: Notice.

SUMMARY: The Department of Labor's (DOL) Employment and Training Administration (ETA) is soliciting comments concerning a proposed extension, with changes, for the authority to conduct the information collection request (ICR) titled, “Claims and Payment Activities.” This comment request is part of continuing Departmental efforts to reduce paperwork and respondent burden in accordance with the Paperwork Reduction Act of 1995 (PRA).

DATES: Consideration will be given to all written comments received by September 6, 2024.

ADDRESSES: A copy of this ICR with applicable supporting documentation, including a description of the likely respondents, proposed frequency of response, and estimated total burden, may be obtained free by contacting Rachel Beistel by telephone at 202-693-2736 (this is not a toll-free number) or by email at beistel.rachel@dol.gov. For persons with a hearing or speech disability who need assistance to use the telephone system, please dial 711 to access telecommunications relay services.

Submit written comments about, or requests for a copy of, this ICR by mail or courier to the U.S. Department of Labor, Employment and Training Administration, Office of Unemployment Insurance Room S-4519, 200 Constitution Ave. NW, Washington, DC 20210; by email: OUI-PRA@dol.gov; or by fax 202-693-3975.

FOR FURTHER INFORMATION CONTACT: Kevin Stapleton by telephone at 202-693-3009 (this is not a toll-free number) or by email at stapleton.kevin@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Section 303(a)(6) of the Social Security Act (SSA) specifies that for State Unemployment Insurance (UI) programs to be certified to receive administrative funding from the Federal Government, the State's law must include provisions for “making of such reports . . . as the Secretary of Labor may from time to time require, and compliance with such provisions as the Secretary may from time to time find necessary to assure the correctness and verification of such reports.” DOL considers the proposed changes and updates to the ETA 5159 report to be one of those “provisions . . . necessary to assure the correctness and verification” of the reports submitted by States. ETA is proposing changes to the ETA 5159 to continue to collect information on claim activities, number of claims and amount of payments under State UI laws and Federal unemployment insurance laws for Federal workers and ex-service members, as well as add additional sections on activities for claimants that received State UI first payments and final payments by race or ethnicity, sex and/or gender, level of educational attainment following the updated definitions proposed for the ETA 203 Report titled “Characteristics of the Insured Unemployed” under OMB Control Number 1205-0009 and a new field capturing incomplete claims. The additional demographic report fields for Sex and/or Gender incorporate the most recent U.S. State Department's updated passport guidelines. The report fields for Race or Ethnicity follow the updated guidance/changes set out in the Office of Management and Budget's Revisions to its Statistical Policy Directive No. 15: Standards for Maintaining, Collecting, and Presenting Federal Data on Race and Ethnicity,¹ which became effective on March 29, 2024. The update field for Level of Educational Attainment aligns with the U.S. Census Bureau.

¹ https://www.govinfo.gov/content/pkg/FR-2024-03-29/pdf/2024-06469.pdf.

These changes will capture characteristics that better reflect society and the UI population across demographic groups. ETA proposes adding these categories to increase understanding of interactions between socio-economic characteristics and unemployment insurance receipt, benefit exhaustion, and to assist State UI program managers seeking to identify areas of needs such as barriers to filing an application for benefits, hence the additional field for “incomplete claims”. An individual's refusal to disclose claimant demographic information will not impact eligibility determinations. Also, any responses collected and information provided will be treated as confidential. This data will not be shared beyond aggregate reporting to ETA and any demographic information associated with a specific claimant or employer will be masked or hidden from State agency staff. Furthermore, an individual's disclosure of demographic information is voluntary and a non-response to questions will continue to be reported as “Information Not Available” or INA. Section 303(a)(6) SSA, authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0010.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

Minimize the burden of the collection of information on those who are to respond, including through the use of appropriate automated, electronic, mechanical, or other technological collection techniques or other forms of information technology, (e.g., permitting electronic submission of responses).

Agency: DOL-ETA.

Type of Review: Revision.

Title of Collection: Claims and Payment Activities.

Form: ETA 5159.

OMB Control Number: 1205-0010.

Affected Public: State Workforce Agencies.

Estimated Number of Respondents: 53.

Frequency: Monthly.

Total Estimated Annual Responses: 636.

Estimated Average Time per Response: 40 minutes.

Estimated Total Annual Burden Hours: 424 hours.

Total Estimated Annual Other Cost Burden: $0.

Authority: 44 U.S.C. 3506(c)(2)(A).

José Javier Rodríguez,
Assistant Secretary for Employment and Training, Labor.

[FR Doc. 2024-14791 Filed 7-5-24; 8:45 am]

BILLING CODE 4510-FW-P